DEPARTMENT OF THE INTERIOR

[Docket No. ONRR-2012-002]

Notice Seeking Comment on the Extractive Industries Transparency Initiative

AGENCY: Office of the Secretary, Interior.

ACTION: Notice.

SUMMARY: The Department of the Interior (Department) requests comments and suggestions from affected parties and the interested public prior to convening a multi-stakeholder group tasked to implement the Extractive Industries Transparency Initiative (EITI). This notice solicits comments and suggestions for review by a third party neutral facilitator for possible stakeholders who should be considered for inclusion in the multi-stakeholder group. Getting feedback upfront and involving all affected stakeholders in the EITI process are the hallmarks of good government and smart business practice. Additionally, this notice seeks comments for the facilitator on effective and productive processes for convening the multi-stakeholder group. Finally, this notice seeks comments and suggestions for the facilitator for effective collaboration by the multi-stakeholder group in order to implement EITI. The Department will announce any public listening sessions in a future Federal Register notice.

DATES: You must submit your comments by April 9, 2012.

ADDRESSES: You may submit comments on this notice by any of the following methods:

• Federal eRulemaking Portal: http://www.regulations.gov. In the entry titled “Enter Keyword or ID,” enter ONRR-2012-002, then click search. Follow the instructions to submit public comments and view supporting and related materials available for this. The Department will post all comments.

• Mail, overnight courier, or hand-carry comments to: EITI Comments; c/o U.S. Department of the Interior; 1801 Pennsylvania Ave. NW., Suite 400, Washington, DC 20006.

FOR FURTHER INFORMATION CONTACT: Karen Senhadji; Senior Advisor to the Assistant Secretary for Policy, Management and Budget; 1849 C Street NW., Washington, DC 20240, telephone (202) 254-5573, fax number (202) 254-5589, email eiti@ios.doi.gov.

SUPPLEMENTARY INFORMATION: In September 2011, President Barack Obama announced the United States' commitment to participate in the Extractive Industries Transparency Initiative (EITI). EITI is a signature initiative of the U.S. national action plan for the international Open Government Partnership. On October 25, concurrent with the EITI board meeting in Jakarta, President Obama named Secretary of the Interior Ken Salazar as the U.S. Senior Official responsible for implementing USEITI. In response, Secretary Salazar posted a White House blog the same day, committing to work with industry and civil society to implement USEITI.

Thirty-five countries are in various stages of implementing EITI, most of them developing countries who have been encouraged to join by industry, civil society and the World Bank. EITI offers a voluntary framework for governments and companies to publicly disclose in parallel the revenues paid and received for extraction of oil, gas and minerals owned by the state. The design of each framework is country-specific, and is developed through a multi-year, consensus based process by a multi-stakeholder group comprised of government, industry and civil society.

EITI will strengthen relationships among the U.S. government, industry, and civil society; deliver a more transparent, participatory, and collaborative government; ensure the full and fair return to the American people for the use of its public resources; and enable the U.S. to lead by example internationally on transparency and good governance. For further information on EITI, please visit the Department of the Interior's EITI Web page at http://www.doi.gov/EITI.

Accordingly, the Department of the Interior is seeking public comment and recommendations on the following specific issues:

• The EITI requires a multi-stakeholder group to be formed to oversee implementation. Who are the key sectors or stakeholders that need to be involved in the multi-stakeholder group?

• How best can a balance, with regards to interests and perspectives, be achieved in the formation of the multi-stakeholder group?

• In your opinion, what are the key attributes of both a successful multi-stakeholder group and the successful implementation of USEITI?

• What key concerns, if any, do you have about implementing the USEITI process?

Executive Order 13175 requires the Federal Government to consult and collaborate with the Indian community (tribes and individual Indian mineral owners) in the development of Federal policies that impact the Indian community. The locations of the public listening sessions will be chosen to allow for increased participation by the Indian community.

We encourage stakeholders and members of the public to participate. The listening session will be open to the public without advance registration; however, attendance may be limited to the space available at each venue. For building security measures, each person may be required to present a picture identification to gain entry to the meetings.

Dated: February 16, 2012.
Amy Holley,
Acting Assistant Secretary, Policy, Management and Budget.

[FR Doc. 2012-4316 Filed 2-23-12; 8:45 am]

BILLING CODE 4310-T2-P